DEPARTMENT OF LABOR

Employment and Training Administration

[TA-W-53,539 and TA-W-53,539A]

E.L. Mansure Company, a Division of Chf Industries, Inc., Clinton, SC, and E.L. Mansure Company Sales Office, a Division of Chf Industries, Inc., New York, NY; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on December 22, 2003, applicable to E.L. Mansure Company, a division of CHF Industries, Inc., Clinton, South Carolina. The notice was published in the Federal Register on January 16, 2004 (69 FR 2623).

At the request of a company official, the Department reviewed the certification for workers of the subject firm. The workers were engaged in the production of cotton webbing and cotton knitted fringe.

Information shows that worker separations occurred at the New York, New York location of the subject firm. The workers provided sales functions for the subject firm's production facility located in Clinton, South Carolina.

Accordingly, the Department is amending the certification to include workers of E.L. Mansure Company, Sales Office, a division of CHF Industries, Inc., New York, New York.

The intent of the Department's certification is to include all workers of E.L. Mansure Company, a division of CHF Industries, Inc. who were adversely affected by increased imports.

The amended notice applicable to TA-W-53,539 is hereby issued as follows:

“All workers of E.L. Mansure Company, a division of CHF Industries, Clinton, South Carolina (TA-W-53,539) and E.L. Mansure, Sales Office, a division of CHF Industries, New York, New York (TA-W-53,539A), who became totally or partially separated from employment on or after November 11, 2002, through December 22, 2005, are eligible to apply for adjustment assistance under Section 223 of the Trade Act of 1974, and are also eligible to apply for alternative trade adjustment assistance under Section 246 of the Trade Act of 1974.”

Signed at Washington, DC, this 16th day of April, 2004.
Linda G. Poole,
Certifying Officer, Division of Trade Adjustment Assistance.

[FR Doc. E4-964 Filed 4-29-04; 8:45 am]

BILLING CODE 4510-13-P